FEDERAL COMMUNICATIONS COMMISSION

47 CFR Part 76

[MB Docket No. 11-131; DA 11-2025]

Revision of the Commission's Program Carriage Rules

AGENCY: Federal Communications Commission.

ACTION: Proposed rule; extension of reply comment period.

SUMMARY: The Media Bureau extends the deadline for filing reply comments on the Notice of Proposed Rulemaking (“NPRM”) in this proceeding which was published in the Federal Register on September 29, 2011. The extension will enable commenters to adequately review and respond to the comments filed in response to the NPRM.

DATES: The reply comment period for the proposed rule published September 29, 2011 (76 FR 60675) is extended. Submit reply comments on or before January 11, 2012.

ADDRESSES: You may submit reply comments, identified by MB Docket No. 11-131, by any of the following methods:

• Federal eRulemaking Portal: http://www.regulations.gov. Follow the instructions for submitting comments.

• Federal Communications Commission's Electronic Comment Filing System (ECFS) Web site: http://www.fcc.gov/cgb/ecfs/. Follow the instructions for submitting comments.

• Mail: Filings can be sent by hand or messenger delivery, by commercial overnight courier, or by first-class or overnight U.S. Postal Service mail. All filings must be addressed to the Commission's Secretary, Office of the Secretary, Federal Communications Commission.

• People With Disabilities: Contact the FCC to request reasonable accommodations (accessible format documents, sign language interpreters, CART, etc.) by email: FCC504@fcc.gov or phone: (202) 418-0530 or TTY: (202) 418-0432.

For detailed instructions on submitting comments and additional information on the rulemaking process, see the SUPPLEMENTARY INFORMATION section of the NPRM.

FOR FURTHER INFORMATION CONTACT: David Konczal, David.Konczal@fcc.gov, of the Media Bureau, Policy Division, (202) 418-2120.

SUPPLEMENTARY INFORMATION: This is a summary of the Order in MB Docket No. 11-131, DA 11-2025, adopted and released on December 15, 2011, which extends the reply comment deadline established in the NPRM published under FCC No. 11-119 at 76 FR 60675, September 29, 2011. The full text of this document is available for public inspection and copying during normal business hours in the FCC Reference Center, Portals II, 445 12th Street SW., Room CY-A257, Washington, DC 20554. The complete text may also be purchased from the Commission's copy contractor, Best Copy and Printing, Inc., 445 12th Street SW., Room CY-B402, Washington, DC 20554. The full text may also be downloaded at: http://www.fcc.gov. Alternative formats are available to persons with disabilities by sending an email to FCC504@fcc.gov or by calling the Consumer & Governmental Affairs Bureau at (202) 418-0530 (voice), (202) 418-0432 (TTY).

Summary of the Order

1. On August 1, 2011, the Commission released an NPRM on revisions to the program carriage rules. The NPRM set deadlines for filing comments and reply comments at 60 and 90 days, respectively, after publication of the NPRM in the Federal Register. A summary of the NPRM was published in the Federal Register on September 29, 2011 (76 FR 60675). Accordingly, the filing dates were initially established as November 28, 2011 for comments and December 28, 2011 for reply comments.

2. On December 13, 2011, the National Cable & Telecommunications Association (“NCTA”), Media Access Project, and Public Knowledge filed a joint request to extend the reply comment deadline by two weeks, until January 11, 2012. They claim that the comments filed in response to the NPRM reflect divergent views and opposing arguments on virtually every issue and note further that the current reply comment deadline falls in the middle of the holiday season. We grant the requested extension. As set forth in Section 1.46 of the Commission's Rules, 47 CFR 1.46, the Commission's policy is that extensions of time for filing comments in rulemaking proceedings shall not be routinely granted. In this case, however, an extension of the reply comment period is warranted to enable commenters to adequately review and respond to the comments filed in response to the NPRM.

3. Accordingly, it is ordered that, pursuant to section 4(i) of the Communications Act of 1934, as amended, 47 U.S.C. 154(i), and §§ 0.61, 0.283, and 1.46 of the Commission's rules, 47 CFR 0.61, 0.283, and 1.46, the Motion for Extension of Time filed by NCTA, Media Access Project, and Public Knowledge is granted, and the deadline to file reply comments in this proceeding is extended to January 11, 2012.

Federal Communications Commission.
Steven A. Broeckaert,
Senior Deputy Chief, Policy Division, Media Bureau.

[FR Doc. 2011-33847 Filed 1-4-12; 8:45 am]

BILLING CODE 6712-01-P